DEPARTMENT OF COMMERCE

International Trade Administration

[C-570-946]

Prestressed Concrete Steel Wire Strand From the People's Republic of China: Final Results of Expedited First Sunset Review of Countervailing Duty Order

AGENCY: Enforcement and Compliance, International Trade Administration, Department of Commerce.

SUMMARY: As a result of this sunset review, the Department of Commerce (the “Department”) finds that revocation of the countervailing duty (“CVD”) order on prestressed concrete steel wire strand (“PC Strand”) from the People's Republic of China (“PRC”) would likely to lead to continuation or recurrence of countervailable subsidies at the level indicated in the “Final Results of Review” section of this notice.

DATES: Effective Date: September 4, 2015.

FOR FURTHER INFORMATION CONTACT: James Terpstra, AD/CVD Operations, Office III, Enforcement and Compliance, International Trade Administration, U.S. Department of Commerce, 1401 Constitution Avenue NW., Washington, DC 20230; telephone: (202) 482-3965.

SUPPLEMENTARY INFORMATION:

Background

On May 1, 2015, the Department initiated a sunset review of the Order ¹ pursuant to section 751(c)(2) of the Tariff Act of 1930, as amended (the “Act”) and 19 CFR 351.218(c).² On May 15, 2015, the Department received a timely notification of intent to participate from Insteel Wire Products Company and Sumiden Wire Products Corporation (collectively, “Domestic Parties” or “Petitioners”), filed in accordance with 19 CFR 351.218(d)(1)(i). On June 1, 2015, the Department received a substantive response from Petitioners, timely filed in accordance with 19 CFR 351.218(d)(3)(i).³ The Department did not receive a substantive response from the Government of China (“GOC”) or company respondent interested parties.

¹ See Pre-Stressed Concrete Steel Wire Strand from the People's Republic of China: Notice of Amended Final Affirmative Countervailing Duty Determination and Notice of Countervailing Duty Order, 75 FR 38977 (July 7, 2010) (“Order”).

² See Initiation of Five-Year “Sunset” Review, 80 FR 24900 (May 1, 2015).

³ See Letter to the Department, entitled “Prestressed Concrete Steel Wire Strand from the PRC: Five-Year (“Sunset”) Review of Countervailing Duty Order,” dated June 13, 2015 (“Domestic Producers' Response”).

Pursuant to 19 CFR 351.218(e)(1)(ii)(C)(2) and section 751(c)(3)(B) of the Act, when there are inadequate responses from respondent interested parties, the Department will conduct an expedited sunset review and, not later than 120 days after the date of publication in the Federal Registerof the notice of initiation, issue final results of review based on the facts available. The Department did not receive a substantive response from the GOC or any PRC producers or exporters. Accordingly, we conducted an expedited (120-day) sunset review of the Order.

Scope of the Order

The scope of the Order is PC strand. Imports of merchandise included within the scope of this Order are currently classifiable under subheadings 7312.10.3010 and 7312.10.3012 of the Harmonized Tariff Schedule of the United States (HTSUS). The Issues and Decision Memorandum (“IDM”), which is hereby adopted by this notice, provides a full description of the scope of the Order.⁴

⁴ See Memorandum from Gary Taverman, Associate Deputy Assistant Secretary for Antidumping and Countervailing Duty Operations, to Paul Piquado, Assistant Secretary for Enforcement and Compliance, entitled “Issues and Decision Memorandum for the Final Results of the Expedited First Sunset Review of the Countervailing Duty Order on Prestressed Concrete Steel Wire Strand from the People's Republic of China,” dated concurrently with this notice.

Analysis of Comments Received

All issues raised in this review are addressed in the accompanying IDM. The issues discussed in the IDM include the likelihood of continuation or recurrence of a countervailable subsidy and the net countervailable subsidy likely to prevail if the Order were revoked. Parties can find a complete discussion of all issues raised in this expedited sunset review and the corresponding recommendations in this public memorandum which is on file electronically via the Enforcement and Compliance Antidumping and Countervailing Duty Centralized Electronic Service System (“ACCESS”). ACCESS is available to registered users at http://access.trade.gov and to all users in the Central Records Unit, Room B8024 of the main Department of Commerce building. In addition, a complete version of the IDM can be accessed directly on the Internet at http://enforcement.trade.gov/frn/index.html. The signed IDM and the electronic versions of the IDM are identical in content.

Final Results of Sunset Review

Pursuant to sections 752(b)(1) and (3) of the Act, the Department finds that revocation of the Order would be likely to lead to continuation or recurrence of countervailable subsidies, as indicated in the following chart:

Producer/exporter | Net subsidy rate
Fasten Group Corporation (Fasten Corp.), Fasten Group Import & Export Co., Ltd. (Fasten I&E), Jiangyin Hongsheng Co. Ltd. (Hongsheng), Jiangyin Fasten Steel Products Co., Ltd. (Fasten Steel), Jiangyin Hongyu Metal Products Co., Ltd. (Hongyu Metal), and Jiangyin Walsin Steel Cable Co., Ltd. (Walsin) (Collectively, the Fasten Companies) | 9.42 percent ad valorem.
Xinhua Metal Products Company Ltd. (Xinhua), Xinyu Iron and Steel Joint Stock Limited Company (Xinyu), and Xingang Iron and Steel Joint Stock Limited Liability Company (Xingang) (Collectively the Xinhua Companies) | 45.85 percent ad valorem.
All Others | 27.64 percent ad valorem.

Notification Regarding Administrative Protective Order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing the results and notice in accordance with sections 751(c), 752, and 777(i)(1) of the Act.

Dated: August 31, 2015.
Paul Piquado,
Assistant Secretary for Enforcement and Compliance.

Appendix—List of Topics Discussed in the Issues and Decision Memorandum

I. Summary

II. History of the Order

III. Background

IV. Scope of the Order

V. Discussion of the Issues

1. Likelihood of Continuation or Recurrence of a Countervailable Subsidy

2. Net Countervailable Subsidy Likely to Prevail

3. Nature of the Subsidy

Export Subsidies

Other Subsidies

VI. Final Results of Review

VII. Recommendation

[FR Doc. 2015-22067 Filed 9-3-15; 8:45 am]

BILLING CODE 3510-DS-P